DEPARTMENT OF HOUSING AND URBAN DEVELOPMENT

[Docket No. FR-4723-FA-20]

Announcement of Funding Awards for Fiscal Year 2002 Tribal Colleges and Universities Program

AGENCY: Office of the Assistant Secretary for Policy Development and Research, HUD.

ACTION: Announcement of funding awards.

SUMMARY: In accordance with section 102 (a)(4)(C) of the Department of Housing and Urban Development Reform Act of 1989, this document notifies the public of funding awards for Fiscal Year 2002 Tribal Colleges and Universities Program. The purpose of this document is to announce the names and addresses of the award winners and the amount of the awards which are to be used to enable tribal colleges and universities to build, expand, renovate, and equip their own facilities, especially those that are available to and used by the larger community.

FOR FURTHER INFORMATION CONTACT: Susan Brunson, Office of University Partnerships, Department of Housing and Urban Development, Room 8106, 451 Seventh Street, SW., Washington, DC 20410, telephone (202) 708-3061, ext. 3852. To provide service for persons who are hearing-or-speech-impaired, this number may be reached via TTY by Dialing the Federal Information Relay Service on 800-877-8339 or 202-708-1455 (Telephone number, other than “800” TTY numbers are not toll free).

SUPPLEMENTARY INFORMATION: The Tribal Colleges and Universities Program was enacted under section 107 of the CDBG appropriation for fiscal year 2002, as part of the “Veterans Administration, HUD and Independent Agencies Appropriations Act of 2002” and is administered by the Office of University Partnerships under the Assistant Secretary for Policy Development and Research. In addition to this program, the Office of University Partnerships administers HUD's ongoing grant programs to institutions of higher education as well as creates initiatives through which colleges and universities can bring their traditional missions of teaching, research, service, and outreach to bear on the pressing local problems in their communities.

The Tribal Colleges and Universities Program assist tribal colleges and universities to build, expand, renovate, and equip their own facilities. On March 26, 2002 (67 FR 13993), HUD published a Notice of Funding Availability (NOFA) announcing the availability of $3 million in Fiscal Year 2002 funds for the Tribal Colleges and Universities Program. The Department reviewed, evaluated and scored the applications received based on the criteria in the NOFA. As a result, HUD eight applications were funded.

The Catalog Federal Domestic Assistance number for this program is 14.519.

In accordance with section 102(a) (4)(C) of the Department of Housing and Urban Development Reform Act of 1989 (103 Stat. 1987, 42 U.S.C. 3545), the Department is publishing details concerning the recipients of funding awards, as follows

List of Awardees for Grant Assistance Under the FY 2002 Tribal Colleges and Universities Program Funding Competition, by Institution, Address, and Grant Amount

Rocky Mountains

1. Fort Peck Community College, Warren Means, Fort Peck Community College, P.O. Box 398, Polar, MT 59255. Grant: $400,000.

2. Si Tanka College, Robert Hall, Si Tanka College, P.O. Box 220, Eagle Butte, SD 57652. Grant: $400,000.

3. Sisseton Wahpeton Community College, Dr. William Bray, Sisseton Wahpeton Community College, BIA Road 700, Box 689, Agency Village, SD 57268. Grant: $399,885.

4. Stone Child College, Edward Stamper, Stone Child College, RRI Box 1088, Box Elder, MT 59521. Grant: $400,000.

5. Cankdeska Cikana Community College, Walter R. Hollified, Cankdeska Cikana Community College, P.O. Box 269, Fort Totten, ND 58835. Grant: $400,000.

Midwest

6. Keweenaw Bay Ojibwa Community College, Treneice Marshall, Keweenaw Bay Ojibwa Community College, 409 Superior, P.O. Box 519, Baraga, MI 49908. Grant: $400,000.

7. Fond du Lac Tribal and Community College, Dawn Newman, Fond du Lac Tribal Community College, 2101 14th Street, Cloquet, MN 55720. Grant: $200,000.

Great Plains

8. Little Priest Tribal College, Ann Downs, Little Priest Tribal College, 601 East College Drive, Winnebago, NE 68071. Grant: $400,000.

Dated: October 23, 2002.
Harold L. Bunce,
Deputy Assistant Secretary for Economic Affairs.

[FR Doc. 02-28127 Filed 11-5-02; 8:45 am]

BILLING CODE 4210-62-P